DEPARTMENT OF ENERGY

Federal Energy Regulatory Commission

[Docket No. EC00-123-000]

Allegheny Energy Unit 1 and Unit 2, L.L.C., and Allegheny Energy Supply Company, LLC; Notice of Filing

August 16, 2000.

Take notice that on August 14, 2000, Allegheny Energy Unit 1 and Unit 2, L.L.C. (Unit 1 and Unit 2) and Allegheny Energy Supply Company, LLC (AE Supply), have filed a Joint Application Under Section 203 of the Federal Power Act For The Disposition Of Jurisdictional Facilities requesting Commission approval of the merger of Unit 1 and Unit 2 into AE Supply.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 13, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-21334 Filed 8-21-00; 8:45 am]

BILLING CODE 6717-01-M